DEPARTMENT OF HOMELAND SECURITY

U.S. Immigration and Customs Enforcement

[Docket No. ICEB-2022-0005]

RIN 1653-ZA25

Employment Authorization for Sudanese F-1 Nonimmigrant Students Experiencing Severe Economic Hardship as a Direct Result of the Current Crisis in Sudan

AGENCY: U.S. Immigration and Customs Enforcement; Department of Homeland Security.

ACTION: Notice.

SUMMARY: This notice announces that the Secretary of Homeland Security (Secretary) has suspended certain regulatory requirements for F-1 nonimmigrant students whose country of citizenship is the Republic of Sudan (Sudan), regardless of country of birth (or individuals having no nationality who last habitually resided in Sudan), and who are experiencing severe economic hardship as a direct result of the current crisis in Sudan. The Secretary is taking action to provide relief to Sudanese students who are lawful F-1 nonimmigrant students so they may request employment authorization, work an increased number of hours while school is in session, and reduce their course load while continuing to maintain their F-1 nonimmigrant student status. The Department of Homeland Security (DHS) will deem an F-1 nonimmigrant student who receives employment authorization by means of this notice to be engaged in a “full course of study” for the duration of the employment authorization, if the nonimmigrant student satisfies the minimum course load requirement described in this notice.

DATES: This F-1 notice is effective April 19, 2022 through October 19, 2023.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Sudan, regardless of country of birth (or individuals having no nationality who last habitually resided in Sudan), who are present in the United States in lawful F-1 nonimmigrant student status on the date of publication of this notice, and who are experiencing severe economic hardship as a direct result of the current crisis in Sudan. Effective with this publication, suspension of the employment limitations is available through October 19, 2023, for Sudanese students in lawful F-1 nonimmigrant status. DHS will deem an F-1 nonimmigrant student granted employment authorization through the notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of October 19, 2023, provided the student satisfies the minimum course load requirements in this notice. DHS also considers students who engage in online coursework pursuant to ICE Coronavirus Disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Mar. 2022).

Who is covered by this notice?

This notice applies exclusively to F-1 nonimmigrant students who meet all of the following conditions:

(1) Are a citizen of Sudan regardless of country of birth (or an individual having no nationality who last habitually resided in Sudan);

(2) Were lawfully present in the United States in F-1 nonimmigrant status under section 101(a)(15)(F)(i) of the Immigration and Nationality Act (INA), 8 U.S.C. 1101(a)(15)(F)(i), on the date of publication of this notice;

(3) Are enrolled in an academic institution that is Student and Exchange Visitor Program (SEVP)-certified for enrollment for F-1 nonimmigrant students;

(4) Are maintaining F-1 nonimmigrant status; and

(5) Are experiencing severe economic hardship as a direct result of the current crisis in Sudan.

This notice applies to F-1 nonimmigrant students in an approved private school in kindergarten through grade 12, public school in grades 9 through 12, and undergraduate and graduate education. An F-1 nonimmigrant student covered by this notice who transfers to another SEVP-certified academic institution remains eligible for the relief provided by means of this notice.

Why is DHS taking this action?

DHS is taking this action to provide relief to Sudanese F-1 nonimmigrant students experiencing severe economic hardship as a result of the crisis in Sudan. After reviewing country conditions in Sudan and receiving input from the U.S. Department of State (DOS), DHS is taking action to allow eligible F-1 nonimmigrant students from Sudan to request employment authorization, work an increased number of hours while school is in session, and reduce their course load while continuing to maintain F-1 nonimmigrant student status.

The political instability, violence, and human rights abuses; ongoing intercommunal violence in several regions of the country; and a humanitarian crisis linked to the political instability, unprecedented floods, food and clean water shortages, and internal displacement have impacted millions of individuals in Sudan.² On December 20, 2021, DOS issued a Level 4 travel advisory for Sudan, warning people not to travel to Sudan due to “civil unrest” and “crime, terrorism, kidnapping, and armed conflict.” ³ DHS is taking action to provide relief to Sudanese F-1 nonimmigrant students because of the conditions described below.

² Sudan Complex Crisis—Overview, Assessment Capacities Project (ACAPS), Aug. 3, 2021, available at https://www.acaps.org/country/sudan/crisis/complex-crisis; U.S. Dep't of State, 2020 Country Reports on Human Rights Practices: Sudan (Mar. 30, 2021). https://www.state.gov/reports/2020-country-reports-on-human-rights-practices/sudan/.

³ Sudan Travel Advisory, U.S. Dep't of State (Dec. 20, 2021), https://travel.state.gov/content/travel/en/traveladvisories/traveladvisories/sudan-travel-advisory.html.

Political Situation

In April 2019, Sudan's President Omar al-Bashir was overthrown following months of popular protests, ending his 30-year rule.⁴ In August 2019, a civilian-led transitional government made up of a Sovereign Council (whose civilian, armed group and military representatives formed a collective head of state), a civilian Prime Minister, and a Council of Ministers, was established.⁵ Throughout 2021, Sudan continued to face rising political tensions between civilian leaders and the military members of the Sovereign Council as well as growing protests.⁶ In October 2021, Lt. General Abdel Fattah al Burhan launched a military takeover that brought an end to the civilian-led transitional government.⁷

⁴ Sudan Complex Crisis—Overview, Assessment Capacities Project (ACAPS) (Aug. 3, 2021), https://www.acaps.org/country/sudan/crisis/complex-crisis (last visited Mar. 2022).

⁵ Id.

⁶ The Forces for the Declaration of Freedom and Change, or FDFC, is the main coalition of opposition groups that has been stepping up calls for the military to hand leadership over to civilians in the government. It is comprised of various anti-al-Bashir political parties, professional movements and opposition groups. It has also called for restructuring the military and security agencies and ensure that al-Bashir loyalists are removed from these agencies, and to absorb the various opposition armed groups into Sudan's security agencies. See Samy Magdy and Lee Keath, EXPLAINER: How months of tensions led to Sudan's coup, AP News (Oct. 26, 2021), https://apnews.com/article/explaining-what-led-to-sudan-coup-8e3609d1f573b6dd0383ed7a09f0d4aa (last visited Mar. 2022).

⁷ U.S. Relations With Sudan Bilateral Relations Fact Sheet, U.S. Dept. of State, Feb. 4, 2022, available at https://www.state.gov/u-s-relations-with-sudan/#:~:text=The%20Sovereign%20Council%20%E2%80%93%20a%20body,a%20collective%20head%20of%20state.

Since the October 2021 military takeover, protests have continued throughout Sudan.⁸ Hundreds have reportedly been arrested, including activists, passersby, journalists, and an Al Jazeera bureau chief, who was released several days later.⁹ Security forces have reportedly used ammunition and tear gas on protestors.¹⁰ In addition to the arrests, at least 92 protesters have been killed with thousands more injured by security forces.¹¹

⁸ Sudanese forces shoot 14 in deadliest day since military coup, The Guardian (Nov. 17, 2021), https://www.theguardian.com/world/2021/nov/17/sudanese-forces-shoot-dead-at-least-14-protesters-against-coup (last visited Mar. 1, 2022).

⁹ Id.

¹⁰ Michael Atit, Sudan Journalists Protest Media Crackdown Since Coup, Voice of America (Nov. 17, 2021), https://www.voanews.com/a/sudan-journalists-protest-media-crackdown-since-coup/6317029.html (last visited Mar. 2022).

¹¹ The Guardian, supra note 10.

Following the military takeover, in November 2021, civilian and military leaders made a power-sharing agreement, reinstating Prime Minister Abdalla Hamdok. However, “[p]rotests continued even after Mr. Hamdok had returned to office, with some demonstrators saying that his reinstatement was helping to legitimatise the military takeover.” ¹² With violence against civilian protesters continuing, Prime Minister Hamdok resigned on January 2, 2022.¹³ Protests continue, as does the use of excessive forcevoice by security forces. The U.S. government sanctioned the Central Reserve Police, a militarized police unit, for serious human rights abuse under E.O. 13818 on March 21, 2022.

¹² Sudan coup: Prime Minister Abdalla Hamdok resigns after mass protests, BBC.com (Jan. 3, 2022), https://www.bbc.com/news/world-africa-59855246 (last visited Mar. 2022).

¹³ Yassir Abdullah, Nima Elbagir, and Hamdi Alkhshali, Sudanese Prime Minister's resignation triggered by military reneging on deal, sources say, CNN (Jan. 4, 2022), https://www.cnn.com/2022/01/03/africa/sudan-pm-resignation-details-intl/index.html (last visited Mar. 2022).

Armed Conflict and Civil Unrest

In 2020, the civilian-led transitional government signed a peace agreement—Juba Peace Agreement ¹⁴—with various oppositions groups, including groups from Darfur and the South Kordofan and Blue Nile (AKA the “Two Areas”) regions of Sudan.¹⁵ However, one Darfuri opposition group which did not sign this peace agreement, the Sudan Liberation Army/Movement—Abdul Wahid (SLA/AW), continues to be engaged in clashes with the government forces, including with the Sudanese Armed Forces (SAF).¹⁶

¹⁴ U.S. Dep't of State, supra note 2, at 2.

¹⁵ Id. at 1.

¹⁶ Durable Solutions & Baseline Analysis for the U.N. Peacebuilding Fund and the Durable Solutions Working Group in Sudan; Key obstacles to durable solutions and peacebuilding for the displacement-affected communities in Nertiti locality, Central Darfur, U.N. Refugee Agency (UNHCR), 14 (Aug. 2021), https://data2.unhcr.org/en/documents/download/88364 (last visited Mar. 2022).

In January 2021, the United Nations Office for the Coordination of Humanitarian Affairs (UNOCHA) reported that instability, including intercommunal tensions, remained in several parts of the country.¹⁷ In July 2021, the Secretary General for the United Nations (U.N.) asserted that the primary security concern in Sudan remains “the increasing frequency of intercommunal violence.” ¹⁸ Additionally, the withdrawal of the African Union-United Nations Hybrid Operation in Darfur (UNAMID) in June 2021 ¹⁹ has “left a security and programmatic vacuum, which has yet to be filled by the transitional government or state-level authorities.” ²⁰

¹⁷ Sudan: Humanitarian Response Plan 2021, UNOCHA, 12 (Jan. 2021), https://www.ecoi.net/en/file/local/2045900/SDN_2021HRP.pdf (last visited Mar. 2022).

¹⁸ Review of the situation in Darfur—Report of the Secretary General, SCOR, 4 (July 31, 2021), https://undocs.org/pdf?symbol=en/S/2021/696 (last visited Mar. 2022).

¹⁹ Withdrawal of Hybrid Peacekeeping Operation in Darfur Completed by 30 June Deadline, Under-Secretary-General Tells Security Council, Outlining Plans to Liquidate Assets, UN News (July 27, 2021), https://www.un.org/press/en/2021/sc14587.doc.htm (last visited Mar. 2022).

²⁰ Review of the situation in Darfur and benchmarks to assess the measures on Darfur; Report of the Secretary-General [S/2021/696], SCOR, 4 (July 2021), https://www.ecoi.net/en/file/local/2058498/S_2021_696_E.pdf (last visited Mar. 2022).

i. Civil Unrest in Darfur

In July 2021, the U.N. reported that intercommunal violence “has increased in frequency and scale over the past year, in particular in West, North and South Darfur.” ²¹ Since 2019, West Darfur has seen an escalation of intercommunal violence between two key ethnic groups in their region—the “Arab armed groups and [the] Masalit [Darfuri ethnic group].” ²² An escalation of violence in April 2021 resulted in a reported 144 people killed and 232 injured. Because heavy weapons were reportedly used, homes, a hospital, a U.N. compound, and a camp for internally displaced persons were destroyed or damaged. Also, “a power plant—the only source of electricity in El Geneina—was damaged, resulting in a critical disruption to most of the town's communication facilities, in addition to electricity and water supplies in some areas.” ²³ A few months later, in July 2021, UNOCHA reported that “around 500 armed men attached [a town] leaving more than 60 people dead, . . . and another 60 injured.” ²⁴

²¹ Id.

²² Durable Solutions & Baseline Analysis for the U.N. Peacebuilding Fund and the Durable Solutions Working Group in Sudan; Key obstacles to durable solutions and peacebuilding for the displacement-affected communities in Jebel Moon Locality, West Darfur, UNHCR, 15 (Aug. 2021), https://data2.unhcr.org/en/documents/download/88361 (last visited Mar. 2022).

²³ Situation in the Sudan and the activities of the United Nations Integrated Transition Assistance Mission in the Sudan; Report of the Secretary-General [S/2021/470], SCOR, 5-6 (May 17, 2021), https://www.ecoi.net/en/file/local/2052225/S_2021_470_E.pdf (last visited Mar. 2022).

²⁴ UNOCHA, Sudan: Escalation of Violence in Darfur—Flash Update No. 2, 1 (July 27, 2020), https://www.ecoi.net/en/file/local/2035090/Situation+Report+-+Sudan+-+23+Jul+2020+%284%29.pdf (last visited Mar. 1, 2022).

In 2019, UNOCHA assessed that intercommunal violence was the main driver of protection needs in North Darfur.²⁵ In 2021, the European Asylum Support Office (EASO) reported on a series of clashes in the region.²⁶

²⁵ UNHCR, Durable Solutions & Baseline Analysis for the UN Peacebuilding Fund and the Durable Solutions Working Group in Sudan; Key obstacles to durable solutions and peacebuilding for the displacement-affected communities in Tawila locality, North Darfur, 14 (Aug. 2021), https://data2.unhcr.org/en/documents/download/88365 (last visited Mar. 2022).

²⁶ EASO, Political developments and security situation in Sudan between 1 Sept. 2020-31 Aug. 2021, 12 (Oct. 20, 2021), https://www.ecoi.net/en/file/local/2062609/2021_09_Q31_EASO_COI_QUERY_RESPONSE_SUDAN_SECURITY_SITUATION.pdf (last visited Mar. 2022).

Central Darfur is also considered a hotspot due to the strong presence of the SLA/AW in this area, and throughout the Jebel Marra mountains.²⁷ Widespread insecurity and regular clashes between SLA/AW forces and the SAF has resulted in counter retaliation attacks, with civilians reportedly attacked for collaborating with either of the forces.²⁸ In September 2021, the U.N. reported on continued fighting between SLA/AW and government forces in Central Darfur,²⁹ including on May 18, when a clash reportedly resulted in the displacement of 1,284 people.³⁰

²⁷ UNHCR, supra note 19, at 14.

²⁸ Id.

²⁹ Situation in the Sudan and the activities of the United Nations Integrated Transition Assistance Mission in the Sudan, SCOR, 4 (Sept. 1, 2021), https://www.ecoi.net/en/file/local/2059931/S_2021_766_E.pdf (last visited Mar. 2022).

³⁰ Id.

In South Darfur, fighting in May 2020 over land grazing rights between an indigenous group, the Fellata/Fallata, and the Rizeigat reportedly resulted in the death of 30 civilians.³¹ In January 2021, deadly clashes between these groups resumed, reportedly leaving 60 dead and 40 wounded.³² In July 2021, intercommunal violence persisted between the Fallata and Ta'isha tribes, reportedly leaving 48 dead and displacing 185 people.³³

³¹ Reliefweb, 30 people killed in intercommunal violence in South Darfur (May 6, 2020), https://reliefweb.int/report/sudan/30-people-killed-intercommunal-violence-south-darfur (last visited Mar. 1, 2022).

³² Associated Press, Samy Magdy, Tribal clashes leave dozens dead in 2 Sudanese provinces (Jan. 18, 2021), reported by abcNEWS, https://abcnews.go.com/International/wireStory/sudanese-bury-victims-darfur-violence-death-toll-129-75322312 (last visited Mar. 2022).

³³ SCOR, Situation in the Sudan and the activities of the United Nations Integrated Transition Assistance Mission in the Sudan, 4 (Sept.1, 2021), https://www.ecoi.net/en/file/local/2059931/S_2021_766_E.pdf (last visited Mar. 2022).

Similar intercommunal tensions in East Darfur are rooted in a long history of tensions “between the Rizeigat (pastoralists) and Ma'aliya (sedentary farmers) and Rizeigat (pastoralists) against Misseriya (pastoralists).” ³⁴ These legacy disputes are “driven by control of land, tribal leadership and wider political power plus access to pasture and water.” ³⁵

³⁴ UNHCR, Durable Solutions & Baseline Analysis for the UN Peacebuilding Fund and the Durable Solutions Working Group in Sudan; Key obstacles to durable solutions and peacebuilding for the displacement-affected communities in Assalaya, Yassin and Sheiria localities, East Darfur, 15 (Aug. 2021), https://data2.unhcr.org/en/documents/download/88358 (last visited Mar. 2022).

³⁵ Id.

ii. Civil Unrest in Other Regions

The security situation in the Two Areas remains tense.³⁶ In 2017, the main opposition group in this region—the Sudan People's Liberation Movement/Army-North (SPLM/A-N)—splintered into two factions, resulting in several months of violence between the two groups.³⁷ Both groups were reportedly also involved in area fighting between Arab nomads and Nuban farmers in which a dozen or more people were killed.³⁸ Similar “deadly clashes” ³⁹ in the region included security forces who joined and aligned with civilians fighting along ethnic lines.⁴⁰

³⁶ Asylum Research Centre, Sudan: Country Report; The situation in South Kordofan and Blue Nile—An Update (3rd edition with addendum), 20 (Mar. 2021), https://www.ecoi.net/en/file/local/2045013/Final_01.03.2021.pdf (last visited Mar. 2022).

³⁷ Enough, A Question of Leadership: Addressing a Dangerous Crisis in Sudan SPLM-N, 2 (Jul. 2017), https://enoughproject.org/reports/a-question-of-leadership (last visited Mar. 2022).

³⁸ U.S. Dep't of State, supra note 2, at 9.

³⁹ Asylum Research Centre, supra note 39, at 22.

⁴⁰ UNHCR, Report of the Independent Expert on the situation of human rights in the Sudan, 13 (Jul. 30, 2020), https://reliefweb.int/report/sudan/report-independent-expert-situation-human-rights-sudan-ahrc4553-enar (last visited Mar. 2022); Id. at 22-23.

In January 2019, Sudan's Eastern State (the “Red Sea State”), also saw renewed intercommunal violence between the main Arab and non-Arab ethnic groups in the region.⁴¹ In September 2021, the U.N. assessed that the “security situation in the eastern Red Sea State remained volatile.” ⁴²

⁴¹ U.S. Dep't of State, 2019 Country Reports on Human Rights Practices: Sudan, 9 (Mar. 30, 2020), https://www.state.gov/reports/2019-country-reports-on-human-rights-practices/sudan/ (last visited Mar. 2022).

⁴² SCOR, Situation in the Sudan and the activities of the United Nations Integrated Transition Assistance Mission in the Sudan, 5 (Sept. 1, 2021), https://www.ecoi.net/en/file/local/2059931/S_2021_766_E.pdf (last visited Mar. 2022).

In the Abyei region disputed between Sudan and South Sudan, the U.N. reported that the security situation remained tense with renewed intercommunal violence between the two main ethnic groups in the region—the Misseriya and Ngok Dinka communities.⁴³ In April 2021, the U.N. reported that the “general security situation in the Abyei Area has been relatively calm, yet tense and unpredictable.” ⁴⁴ The “most prevalent threats to security were shooting incidents, the increased presence of unidentified armed groups, armed attacks on civilians and violent confrontations between the communities.” ⁴⁵

⁴³ SCOR, The situation in Abyei; Report of the Secretary-General [S/2020/1019] (Oct. 15, 2020), https://www.ecoi.net/en/file/local/2039488/S_2020_1019_E.pdf (last visited Mar. 2022).

⁴⁴ The situation in Abyei; Report of the Secretary-General [S/2021/383], SCOR, 2 (Apr. 20, 2021), https://reliefweb.int/report/sudan/situation-abyei-report-secretary-general-s2021383-enar (last visited Mar. 2022).

⁴⁵ Id.

Humanitarian Crisis

Sudan also continues “to suffer from one of the world's largest protracted humanitarian crises” due to conflict and displacement, deteriorating economic conditions, limited access to basic services, and several disease outbreaks, including the COVID-19 pandemic.⁴⁶ Since 2018, Sudan has also faced severe economic challenges.⁴⁷ National poverty levels have risen drastically,⁴⁸ and incomes, wages, and purchasing power have fallen, “driving 9.6 million people—almost a quarter of the entire population of Sudan—to severe food insecurity.” ⁴⁹ This economic crisis has reportedly “degraded the already weak, underdeveloped and heavily underfunded primary healthcare system,” including by the end of 2020, reducing the number of healthcare facilities by 40 percent across the country.⁵⁰ The COVID-19 pandemic has further “compounded the already dire public health situation.” ⁵¹

⁴⁶ Sudan Humanitarian impact of multiple protracted crises, ACAPS, 2 (Nov. 24, 2021), https://www.acaps.org/sites/acaps/files/products/files/20201124_acaps_briefing_note_sudan_impact_of_multiple_crises.pdf (last visited Mar. 2022).

⁴⁷ Sudan Economic Crisis, ACAPS, 1 (Feb. 2019), https://www.acaps.org/sites/acaps/files/products/files/20190213_acaps_briefing_note_sudan_economic_crisis.pdf (last visited Mar. 2022).

⁴⁸ Child Protection Annual Report 2020, UN Children's Fund (UNICEF), 6 (Mar. 2021), https://www.unicef.org/sudan/media/6091/file/Child%20Protection%20.pdf (last visited Mar. 2022).

⁴⁹ Id.

⁵⁰ Id.

⁵¹ Id.

During the rainy season in 2020, flooding affected “close to 900,000 people across the country and farmland, livestock, shelter and other infrastructure.” ⁵² Other areas suffered droughts.⁵³ Many of the flood areas have very limited access to clean water.⁵⁴ Water supply sources have been affected by overflow of the Blue Nile River destroying nearby latrines, resulting in increased risk of water contamination and the outbreak of waterborne diseases.⁵⁵ The health situation in Sudan has continued to deteriorate due to flooding causing “stagnant and contaminated water.” ⁵⁶

⁵² UNOCHA, Sudan: Humanitarian Response Plan 2021, 12 (Feb. 21, 2021), https://reliefweb.int/report/sudan/sudan-humanitarian-response-plan-2021-january-2021-enar (last visited Mar. 2022).

⁵³ SCOR, supra note 47, at 5.

⁵⁴ International Federation of Red Cross and Red Crescent Societies, Sudan: Floods—Operation Update—Emergency Appeal (Mar. 25, 2021), https://reliefweb.int/report/sudan/sudan-floods-operation-update-emergency-appeal-n-mdrsd028-24-march-2021 (last visited Mar. 2022).

⁵⁵ Id.

⁵⁶ Id.

Sudan's worsening economy and protracted health emergencies have resulted in an increase of the number of people without access to basic health services.⁵⁷ Sudan has experienced disease outbreaks including cholera, malaria, dengue, chikungunya, viral hemorrhagic fevers and polio.⁵⁸ In 2020 alone, thirteen out of Sudan's eighteen states experienced one or more outbreaks of chikungunya, dengue fever, rift valley fever, or diphtheria.⁵⁹ The COVID-19 pandemic has “further strained the capacity of the health care system due to nationwide lockdowns, re-allocation of health resources, and disruption of global supply chains that impacted availability of medicines and medical supplies.” ⁶⁰

⁵⁷ Sudan Situation Report, 31 May 2021, UNOCHA, 46 (May 31, 2021), https://www.ecoi.net/en/file/local/2055652/Situation+Report+-+Sudan+-+12+May+2021.pdf (last visited Mar. 2022).

⁵⁸ UNOCHA, supra note 55.

⁵⁹ UNICEF, Sudan Health Annual Report 2020, 5, https://www.unicef.org/sudan/media/6141/file/Health.pdf (last visited Mar. 2022).

⁶⁰ UNOCHA, supra note 55, at 46.

In Sudan, “[w]omen and girls suffer the most due to insecurity, violations of basic human rights, low economic status, lack of livelihood opportunities, and lack of community awareness on women's rights.” ⁶¹ The United Nations Children's Fund (UNICEF) has also noted that “[c]hildren throughout Sudan are already bearing the brunt of decades of conflict, chronic underdevelopment and poor governance,⁶² with 64 percent of children below 14 years of age experiencing various forms of violence.” ⁶³

⁶¹ Id.

⁶² UNICEF, Children killed, injured, detained and abused amid escalating violence and unrest in Sudan (June 11, 2019), https://www.unicef.org/press-releases/children-killed-injured-detained-and-abused-amid-escalating-violence-and-unrest (last visited Mar. 2022).

⁶³ UNICEF, Child Protection Annual Report 2020, 7 (Mar. 2021), https://www.unicefusa.org/about/publications/annual-report-2020?gclid=EAIaIQobChMI9p2M0uD39AIVMv7jBx3c2gHbEAAYASAAEgKHN_D_BwE (last visited Mar. 2022).

According to UNOCHA, “Sudan has seen an increase in the number of people in need of humanitarian assistance from 5.8 million people in 2016 to 13.4 million in 2021.” ⁶⁴ It is estimated that among the 13.4 million people in need,⁶⁵ 9.8 million are severely food insecure.⁶⁶ Yet, access to humanitarian assistance is uncertain. In 2021, the Assessments Capacities Project (ACAPS) reported that armed opposition groups in some areas created “barriers to the delivery of humanitarian aid.” ⁶⁷ Intercommunal clashes in other areas have also affected humanitarian operations.⁶⁸ The UNAMID drawdown and closure has also resulted in increased looting and impacted “people's ability to move and reach needed aid.” ⁶⁹ In July 2021, the U.N. reported that “since January 2021, 11 of the 14 UNAMID team sites, which have been handed over to civilian authorities, have been looted.” ⁷⁰

⁶⁴ UNOCHA, supra note 55, at 10.

⁶⁵ UNOCHA, Sudan Key Figures, https://m.reliefweb.int/country/220/sdn (last visited on Nov. 23, 2021).

⁶⁶ UNOCHA, Sudan Situation Report (Sep. 27, 2021), https://reliefweb.int/report/sudan/sudan-situation-report-29-sep-2021 (last visited Mar. 2022).

⁶⁷ ACAPS, Humanitarian Access Overview, 12 (July 2021), https://www.acaps.org/sites/acaps/files/products/files/20210719_acaps_humanitarian_access_overview_july_2021.pdf (last visited Mar. 2022).

⁶⁸ Id.

⁶⁹ Id.

⁷⁰ SCOR, Review of the situation in Darfur and benchmarks to assess the measures on Darfur; Report of the Secretary-General [S/2021/696], 4 (July 2021), https://www.ecoi.net/en/file/local/2058498/S_2021_696_E.pdf (last visited Mar. 2022).

As of February 28, 2022, approximately 324 F-1 nonimmigrant students from Sudan (or individuals having no nationality who last habitually resided in Sudan) are in the United States and enrolled in courses at SEVP-certified U.S. academic institutions. Given the extent of the current crisis in Sudan, affected students whose primary means of financial support comes from Sudan may need to be exempt from the normal student employment requirements to continue their studies in the United States. The current crisis has made it unfeasible for many students to safely return to Sudan for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term.⁷¹ A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

⁷¹ Undergraduate F-1 nonimmigrant students enrolled in a term of different duration must register for at least one half of the credit hours normally required under a “full course of study.” See 8 CFR 214.2(f)(6)(i)(B).

In addition, an F-1 nonimmigrant student (either undergraduate or graduate) granted on-campus or off-campus employment authorization under this notice may count up to the equivalent of one class or three credits per session, term, semester, trimester, or quarter of online or distance education toward satisfying this minimum course load requirement, unless the course of study is in an English language study program.⁷² See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

⁷² DHS considers students who are compliant with ICE Coronavirus Disease 2019 (COVID-19) guidance for nonimmigrant students to be in compliance with regulations while such COVID-19 guidance remains in effect. See ICE Guidance and Frequently Asked Questions on COVID-19, https://www.ice.gov/coronavirus (last visited Feb. 2022).

May an eligible F-1 nonimmigrant student who already has on-campus or off-campus employment authorization benefit from the suspension of regulatory requirements under this notice?

Yes. An F-1 nonimmigrant student who is a Sudan citizen, regardless of country of birth (or an individual having no nationality who last habitually resided in Sudan), who already has on-campus or off-campus employment authorization and is otherwise eligible may benefit under this notice, which suspends certain regulatory requirements relating to the minimum course load requirement under 8 CFR 214.2(f)(6)(i)(A) and (B) and certain employment eligibility requirements under 8 CFR 214.2(f)(9). Such an eligible F-1 nonimmigrant student may benefit without having to apply for a new Form I-766, Employment Authorization Document (EAD). To benefit from this notice, the F-1 nonimmigrant student must request that the designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].

Must the F-1 nonimmigrant student apply for reinstatement after expiration of this special employment authorization if the student reduces his or her “full course of study”?

No. DHS will deem an F-1 nonimmigrant student who receives and comports with the employment authorization permitted under this notice to be engaged in a “full course of study” ⁷³ for the duration of the student's employment authorization, provided that a qualifying undergraduate level F-1 nonimmigrant student remains registered for a minimum of six semester or quarter hours of instruction per academic term, and a qualifying graduate level F-1 nonimmigrant student remains registered for a minimum of three semester or quarter hours of instruction per academic term.⁷⁴ See 8 CFR 214.2(f)(5)(v) and (f)(6)(i)(F). DHS will not require such students to apply for reinstatement under 8 CFR 214.2(f)(16) if they are otherwise maintaining F-1 nonimmigrant status.

⁷³ See 8 CFR 214.2(f)(6).

⁷⁴ Undergraduate F-1 nonimmigrant students enrolled in a term of different duration must register for at least one half of the credit hours normally required under a “full course of study.” See 8 CFR 214.2(f)(6)(i)(B).

Will an F-2 dependent (spouse or minor child) of an F-1 nonimmigrant student covered by this notice be eligible to apply for employment authorization?

No. An F-2 spouse or minor child of an F-1 nonimmigrant student is not authorized to work in the United States and, therefore, may not accept employment under the F-2 nonimmigrant status. See 8 CFR 214.2(f)(15)(i).

Will the suspension of the applicability of the standard student employment requirements apply to an individual who receives an initial F-1 visa and makes an initial entry in the United States after the effective date of this notice in the Federal Register?

No. The suspension of the applicability of the standard regulatory requirements only applies to F-1 nonimmigrant students who meet the following conditions:

(1) Are citizens of Sudan, regardless of country of birth (or individuals having no nationality who last habitually resided in Sudan);

(2) Were lawfully present in the United States in F-1 nonimmigrant status under section 101(a)(15)(F)(i) of the INA, 8 U.S.C. 1101(a)(15)(F)(i), on the date of publication of this notice;

(3) Are enrolled in an academic institution that is SEVP-certified for enrollment of F-1 nonimmigrant students;

(4) Are maintaining F-1 nonimmigrant status; and

(5) Are experiencing severe economic hardship as a direct result of the current crisis in Sudan.

An F-1 nonimmigrant student who does not meet all these requirements is ineligible for the suspension of the applicability of the standard regulatory requirements (even if experiencing severe economic hardship as a direct result of the current crisis in Sudan).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa in order to continue their educational program in the United States.

Does this notice apply to elementary school, middle school, and high school students in F-1 status?

Yes. However, this notice does not by itself reduce the required course load for F-1 nonimmigrant students from Sudan enrolled in private kindergarten through grade 12, or public high school grades 9 through 12. Such students must maintain the minimum number of hours of class attendance per week prescribed by the academic institution for normal progress toward graduation. See 8 CFR 214.2(f)(6)(i)(E). The suspension of certain regulatory requirements related to employment through this notice is applicable to all eligible F-1 nonimmigrant students regardless of educational level. Eligible F-1 nonimmigrant students from Sudan covered by this notice who are enrolled in an elementary school, middle school, or high school may benefit from the suspension of the requirement in 8 CFR 214.2(f)(9)(i) that limits on-campus employment to 20 hours per week while school is in session. Nothing in this notice affects the applicability of federal and state labor laws limiting the employment of minors.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session, if the DSO has entered the following statement in the remarks field of the SEVIS student record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].

To obtain on-campus employment authorization, the F-1 nonimmigrant student must demonstrate to the DSO that the employment is necessary to avoid severe economic hardship directly resulting from the current crisis in Sudan. An F-1 nonimmigrant student authorized by the student's DSO to engage in on-campus employment by means of this notice does not need to file an application with U.S. Citizenship and Immigration Services (USCIS). The standard rules permitting full-time employment on-campus when school is not in session or during school vacations apply. See 8 CFR 214.2(f)(9)(i).

Will an F-1 nonimmigrant student who receives on-campus employment authorization under this notice have authorization to reduce the normal course load and still maintain their F-1 nonimmigrant status?

Yes. DHS will deem an F-1 nonimmigrant student who receives on-campus employment authorization under this notice to be engaged in a “full course of study” ⁷⁵ for the purpose of maintaining their F-1 nonimmigrant student status for the duration of the on-campus employment if the student satisfies the minimum course load requirement described in this notice. See 8 CFR 214.2(f)(6)(i)(F). However, the authorization to reduce the normal course load is solely for DHS purposes of determining valid F-1 nonimmigrant student status. Nothing in this notice mandates that school officials allow an F-1 nonimmigrant student to take a reduced course load if the reduction would not meet the school's minimum course load requirement for continued enrollment.⁷⁶

⁷⁵ See 8 CFR 214.2(f)(6).

⁷⁶ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant status for one full academic year in order to be eligible for off-campus employment;

(b) The requirement that an F-1 nonimmigrant student must demonstrate that acceptance of employment will not interfere with the student's carrying a full course of study;

(c) The requirement that limits an F-1 nonimmigrant student's employment authorization to no more than 20 hours per week of off-campus employment while school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁷⁷ for the purpose of maintaining F-1 nonimmigrant student status for the duration of the student's employment authorization if the student satisfies the minimum course load requirement described in this notice. See 8 CFR 214.2(f)(6)(i)(F). However, the authorization for reduced course load is solely for DHS purposes of determining valid F-1 nonimmigrant status. Nothing in this notice mandates that school officials allow an F-1 nonimmigrant student to take a reduced course load if such reduced course load would not meet the school's minimum course load requirement.⁷⁸

⁷⁷ See 8 CFR 214.2(f)(6).

⁷⁸ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current crisis in Sudan. Filing instructions are located at: http://www.uscis.gov/i-765.

Fee considerations. Submission of a Form I-765 currently requires payment of a $410 fee. An applicant who is unable to pay the fee may submit a completed Form I-912, Request for Fee Waiver, along with the Form I-765, Application for Employment Authorization. See www.uscis.gov/feewaiver. The submission must include an explanation about why USCIS should grant the fee waiver and the reason(s) for the inability to pay, and any evidence to support the reason(s). See 8 CFR 103.7(c).

Supporting documentation. An F-1 nonimmigrant student seeking off-campus employment authorization due to severe economic hardship must demonstrate the following to the DSO:

(1) This employment is necessary to avoid severe economic hardship; and

(2) The hardship is a direct result of the current crisis in Sudan.

If the DSO agrees that the F-1 nonimmigrant student should receive such employment authorization, the DSO must recommend application approval to USCIS by entering the following statement in the remarks field of the student's SEVIS record, which will then appear on the student's Form I-20:

Recommended for off-campus employment authorization in excess of 20 hours per week and reduced course load under the Special Student Relief authorization from the date of the USCIS authorization noted on Form I-766 until [DSO must insert the program end date or the end date of this notice, whichever date comes first].

The F-1 nonimmigrant student must then file the properly endorsed Form I-20 and Form I-765, according to the instructions for the Form I-765. The F-1 nonimmigrant student may begin working off campus only upon receipt of the EAD from USCIS.

DSO recommendation. In making a recommendation that a F-1 nonimmigrant student be approved for Special Student Relief, the DSO certifies that:

(a) The F-1 nonimmigrant student is in good academic standing and is carrying a “full course of study” ⁷⁹ at the time of the request for employment authorization;

⁷⁹ See 8 CFR 214.2(f)(6).

(b) The F-1 nonimmigrant student is a Sudan citizen, regardless of country of birth (or an individual having no nationality who last habitually resided in Sudan), and is experiencing severe economic hardship as a direct result of the current crisis in Sudan, as documented on the Form I-20;

(c) The F-1 nonimmigrant student has confirmed that the student will comply with the reduced course load requirements of 8 CFR 214.2(f)(5)(v) and register for the duration of the authorized employment for a minimum of six semester or quarter hours of instruction per academic term if at the undergraduate level, or for a minimum of three semester or quarter hours of instruction per academic term if the student is at the graduate level; and

(d) The off-campus employment is necessary to alleviate severe economic hardship to the individual as a direct result of the current crisis in Sudan.

Processing. To facilitate prompt adjudication of the student's application for off-campus employment authorization under 8 CFR 214.2(f)(9)(ii)(C), the F-1 nonimmigrant student should do both of the following:

(a) Ensure that the application package includes all of the following documents:

(1) A completed Form I-765;

(2) The required fee or properly documented fee waiver request, as described in 8 CFR 103.7(c); and

(3) A signed and dated copy of the student's Form I-20 with the appropriate DSO recommendation, as previously described in this notice; and

(b) Send the application in an envelope which is clearly marked on the front of the envelope, bottom right-hand side, with the phrase “SPECIAL STUDENT RELIEF.” Failure to include this notation may result in significant processing delays.

If USCIS approves the student's Form I-765, USCIS will send the student a Form I-766 EAD as evidence of employment authorization. The EAD will contain an expiration date that does not exceed the end of the granted temporary relief.

Temporary Protected Status Considerations

Can an F-1 nonimmigrant student apply for temporary protected status (TPS) and for benefits under this notice at the same time?

Yes. An F-1 nonimmigrant student who has not yet applied for TPS or other relief that reduce the student's course load per term and permits an increased number of work hours per week, such as Special Student Relief,⁸⁰ under this notice has two options.

⁸⁰ See DHS Study in the States, Special Student Relief, https://studyinthestates.dhs.gov/students/special-student-relief (last visited Feb. 2022).

Under the first option, the nonimmigrant student may file the TPS application according to the instructions in the USCIS notice announcing the designation of Sudan for TPS published elsewhere in this issue of the Federal Register. All TPS applicants must file a Form I-821, Application for Temporary Protected Status with the appropriate fee (or request a fee waiver). Although not required to do so, if an F-1 nonimmigrant student wants to obtain a new EAD based on their TPS application that is valid through October 19, 2023, and to be eligible for automatic EAD extensions that may be available to certain EADs with an A-12 or C-19 category code, they must file Form I-765 and pay the Form I-765 fee (or submit a Request for a Fee Waiver (Form I-912)). After receiving the TPS-related EAD, an F-1 nonimmigrant student may request that the student's DSO make the required entry in SEVIS, issue an updated Form I-20, as described in this notice, and notate that the nonimmigrant student has been authorized to carry a reduced course load and is working pursuant to a TPS-related EAD. So long as the nonimmigrant student maintains the minimum course load described in this notice, does not otherwise violate the student's nonimmigrant status, including as provided under 8 CFR 214.1(g), and maintains the student's TPS, then the student maintains F-1 nonimmigrant status and TPS concurrently.

Under the second option, the nonimmigrant student may apply for an EAD under Special Student Relief by filing the Form I-765 with the location specified in the filing instructions. At the same time, the F-1 nonimmigrant student may file a separate TPS application but must submit the TPS application according to the instructions provided in the Federal Register Notice announcing the designation of Sudan for TPS. The F-1 nonimmigrant student already has applied for employment authorization under Special Student Relief and may choose not to submit the Form I-765 as part of the TPS application. However, some nonimmigrant students may wish to obtain a TPS EAD in light of automatic extensions that may be available to certain EADs with an A-12 or C-19 category code. The nonimmigrant student should check the appropriate box when filling out Form I-821 to indicate whether a TPS-related EAD is being requested. Again, so long as the nonimmigrant student maintains the minimum course load described in this notice and does not otherwise violate the student's nonimmigrant status, including as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁸¹ unless or until the nonimmigrant student receives employment authorization under this notice. TPS-related employment authorization, by itself, does not authorize a nonimmigrant student to drop below twelve credit hours, or otherwise applicable minimum requirements (e.g., clock hours for language students). Once approved for Special Student Relief employment authorization, the F-1 nonimmigrant student may drop below twelve credit hours, or otherwise applicable minimum requirements (with a minimum of six semester or quarter credit hours of instruction per academic term if at the undergraduate level, or for a minimum of three semester or quarter credit hours of instruction per academic term if at the graduate level). See 8 CFR 214.2(f)(5)(v), 214.2(f)(6), and 214.2(f)(9)(i) and (ii).

⁸¹ See 8 CFR 214.2(f)(6).

How does a student who has received a TPS-related employment authorization document then apply for authorization to take a reduced course load under this notice?

There is no further application process with USCIS if a student has been approved for a TPS-related EAD. The F-1 nonimmigrant student must demonstrate and provide documentation to the DSO of the direct economic hardship resulting from the current crisis in Sudan. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Current regulations permit certain students who fall out of F-1 nonimmigrant student status to apply for reinstatement. See 8 CFR 214.2(f)(16). This provision might apply to students who worked on a TPS-related EAD or dropped their course load before publication of this notice, and therefore fell out of student status. These students must satisfy the criteria set forth in the F-1 nonimmigrant student status reinstatement regulations.

How long will this notice remain in effect?

This notice grants temporary relief until October 19, 2023 ⁸² to eligible F-1 nonimmigrant students. DHS will continue to monitor the situation in Sudan. Should the special provisions authorized by this notice need modification or extension, DHS will announce such changes in the Federal Register.

⁸² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of October 19, 2023, provided the student satisfies the minimum course load requirement in this notice. DHS also considers students who engage in online coursework pursuant to ICE Coronavirus Disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Mar. 2022).

Paperwork Reduction Act (PRA)

An F-1 nonimmigrant student seeking off-campus employment authorization due to severe economic hardship resulting from the current crisis in Sudan must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2022-08362 Filed 4-18-22; 8:45 am]

BILLING CODE 9111-28-P